DEPARTMENT OF AGRICULTURE

Submission for OMB Review; Comment Request

February 1, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection through the use of appropriate automated, electronic, mechanical, or other technological technology should be addressed to: Desk Officer for Agriculture, Office of Information and Regulatory Affairs, Office of Management and Budget (OMB), Washington, DC 20503 and to Departmental Clearance Office, USDA, OCIO, Mail Stop 7602, Washington, DC 20250-6502. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Rural Utility Service

Title: 7 CFR 1773, Policy on Audits of RUS Borrowers.

OMB Control Number: 0572-0095.

Summary of Collection: Under the authority of the Rural Electrification Act of 1936 (ACT), as amended 7 U.S.C. 901 et seq., the Administrator is authorized and empowered to make loans under certain specified circumstances. As a requirement for these loans the Rural Utility Service (RUS) mortgage in Article 2, Section 12, requires each Mortgagor to prepare and furnish financial statements to RUS at least annually. RUS, in representing the Federal Government as Mortgagee and in furthering the objectives of the Act, relies on the information provided by the borrowers in their financial statements to make lending decisions as to borrowers credit worthiness and to assure that loan funds are approved, advanced and disbursed for proper Act purposes.

Need and Use of the Information: RUS will collect information to evaluate borrowers' financial performance, determine whether current loans are at financial risk, and determine the credit worthiness of future losses. If information is not collected, it would delay RUS' analysis of the borrowers' financial strength, thereby adversely impacting current lending decisions.

Description of Respondents: Not-for-profit institutions; Business or other for-profit.

Number of Respondents: 1,800.

Frequency of Responses: Reporting: On occasion.

Total Burden Hours: 20,374.

Rural Utility Service

Title: 7 CFR 1792, Subpart C—Seismic Safety of New Building Construction.

OMB Control Number: 0572-0099.

Summary of Collection: Seismic hazards present a serious threat to people and their surroundings. These hazards exist in most of the United States, not just on the West Coast. Unlike hurricanes, the time and location of earthquakes cannot be predicted; most earthquakes strike without warning and, if of substantial strength, strike with great destructive forces. To reduce risks to life and property from earthquakes, Congress enacted the Earthquake Hazards Reduction Act of 1977 (Public Law 95-124, 42 U.S.C. 7701 et seq.) and directed the establishment and maintenance of an effective earthquake reduction program. As a result, the National Earthquake Hazards Reduction Program (NEHRP) was established. The objectives of the NEHRP include the development of technologically and economically feasible design and construction methods to make both new and existing structures earthquake resistant, and the development and promotion of model building codes. 7 CFR part 1792, subpart C, identifies acceptable seismic standards which must be employed in new building construction funded by loans, grants, or guarantees made by the Rural Utility Service (RUS) or the Rural Telephone Bank (RTB) or through lien accommodations or subordination's approved by RUS or RTB.

Need and Use of the Information: RUS will collect information on the project designation and owners name; name of the architectural/engineering firm; name and registration number (for the State in which the building project is located) of the certifying architect or engineer; purpose and location of the facility; seismic factor for the building location; the code identity and date of the model code used for the design and construction of the building project(s); total square footage of the building project; total cost of the building project; and estimated cost of the structural systems affected by the requirements of 7 CFR part 1792, Subpart C.

Description of Respondents: Business or other for-profit.

Number of Respondents: 100.

Frequency of Responses: Reporting: On occasion.

Total Burden Hours: 225.

Rural Utility Service

Title: Prospective Large Power Service.

OMB Control Number: 0572-0001.

Summary of Collection: The Rural Utilities Service (RUS) is a credit agency of the U.S. Department of Agriculture. It makes mortgage loans and loan guarantees to finance electric, telecommunications, and water and waste water facilities in rural areas. Loan programs are managed in accordance with the Rural Electrification Act (RE Act) of 1936, 7 U.S.C. 901 et seq., as amended, and as prescribed by Office of Management and Budget (OMB) Circular A-129, Policies for Federal Credit Programs and Non-Tax Receivables, which states that agencies must, based on a review of a loan application, determine that an applicant complies with statutory, regulatory, and administrative eligibility requirements for loan assistance. RUS Form 170 is used to obtain information from borrowers on contracts that the borrower proposes to enter into for a large industrial or commercial electric power load, specifically setting forth load estimates by analyzing market costs.

Need and Use of the Information: RUS will collect information to show the feasibility of providing services to prospective large power consumers; check the adequacy of rates based on the amount of investment in facilities; show the method used to obtain funds for financing construction; and show contract terms, i.e., length of service, proposed rate, and minimum charge.

Description of Respondents: Not-for-profit institutions.

Number of Respondents: 5.

Frequency of Responses: Reporting: On occasion.

Total Burden Hours: 22.

Food and Nutrition Service.

Title: Summer Food Service Program Claim for Reimbursement.

OMB Control Number: 0584-0041.

Summary of Collection: The Summer Food Service Program Claim for Reimbursement Form is used to collect meal and cost data from sponsors to determine the reimbursement entitlement for meals served. The form is sent to the Food and Nutrition Service's (FNS) Regional Offices where it is entered into a computerized payment system. The payment system computes earnings to date and the number of meals to date and generates payments for the amount of earnings in excess of prior advance and claim payments. To fulfill the earned reimbursement requirements set forth in the Summer Food Service Program regulations issued by the Secretary of Agriculture (7 CFR 225.9), the meal and cost data must be collected on the FNS-143 claim form.

Need and Use of the Information: FNS will collect information to manage, plan, evaluate, and account for government resources. The reports and records are required to ensure the proper and judicious use of public funds. If the information is not collected on the claim form, the sponsor could not receive reimbursement.

Description of Respondents: Not-for-profit institutions.

Number of Respondents: 530.

Frequency of Responses: Recordkeeping; Reporting: Other (Summer).

Total Burden Hours: 1,193.

Forest Service

Title: Improve Management of the Tongass National Forest and Service to Local, Regional, and National Customers.

OMB Control Number: 0596-NEW.

Summary of Collection: The Tongass National Forest encompasses nearly 85 percent of the land in southeast Alaska and forms the basis for the regional economy. Commercial fishing, timber production, mineral extraction, and the quickly growing tourism industry depend on the renewable and non-renewable natural resources of this national forest. Forest plans are required by the National Forest Management Act of 1976; the Alaska National Interest Conservation Act of 1980 requires evaluation of forest plans and other use actions in Alaska that may affect subsistence use of fish and wildlife. The Forest Service (FS) will manage the Tongass National Forest, the nation's largest National Forest, over the next 10-15 years. Tourism, expected to continue to grow at 10-20% per year in coming years, is beginning to tax both the natural resources and the resident communities of the area. The Tongass Land Management Plan recognized significant changes in public use of the forest and in public values and attitudes and identified the information need to collect relevant socioeconomic data. The FS will collect information using a study survey.

Need and Use of the Information: FS will collect information to identify needs by providing information on public use of the Tongass National Forest and on public attitudes and values relevant to the forest management issues that are likely to be important in coming years. The information will be used in making regular management decisions and in developing larger scale plans for the Tongass National Forest. If the information is not collected, FS decision-makers/will lack essential information.

Description of Respondents: Individuals or households.

Number of Respondents: 1600.

Frequency of Responses: Reporting: On occasion.

Total Burden Hours: 800.

Farm Service Agency

Title: Warehouse Regulations under USWA and Standards for Approval of Warehouses.

OMB Control Number: 0560-0120.

Summary of Collection: Section 4 of the United States Warehouse Act (USWA) (7 U.S.C. 244) states that the Secretary of Agriculture, or his designated representative, is authorized, upon application to him, to issue to any warehouseman a license for the conduct of a warehouse or warehouses in accordance with this Act and such rules and regulations as may be hereunder: PROVIDED, that each such warehouse be found suitable for the proper storage of the particular agricultural product or products for which a license is applied for, and that such warehousemen agree, as a condition to the granting of the license, to comply with and abide by all the terms of this act and the rules and regulations prescribed hereunder. The USWA is administered by the Farm Service Agency (FSA). Although there are several warehouse types covered under the USWA, the reporting requirements within a particular warehouse type are essentially the same as those across all warehouse types and, with some exceptions, the forms are used bilaterally; that is, they are used for both USWA licensing and Commodity Credit Corporation purposes. The forms are furnished to interested warehousemen/warehouse operators or used by the warehouse examiners employed by FSA to secure and record information about the warehouseman/warehouse operators and the warehouse. FSA will collect information using several forms.

Need And Use of the Information: FSA will collect Information (1) to determine whether or not the warehouse and the warehouseman/warehouse operator making application for licensing and/or approval meets applicable standards; (2) to issue such licensed or approvals' (3) to determine, once licenses or approved, that the licensee or warehouse operator continues to meet such standards and is conforming to regulatory or contractual obligations; (4) to determine that the stored commodity is in good condition; and (5) to determine that the licensee or warehouse operator is storing the commodity for which licensed or approved in a safe and prudent manner.

Description of Respondents: Business or other for-profit.

Number of Respondents: 4,500.

Frequency of Responses: Recordkeeping; Reporting: On occasion; Annually; Other (daily record).

Total Burden Hours: 15,151.

Food and Nutrition Service

Title: 7 CFR Part 220 School Breakfast Program.

OMB Control Number: 0584-0012.

Summary of Collection: Section 4 of the Child Nutrition Act (CNA) of 1966, as amended, authorizes the School Breakfast Program (SBP). The Food and Nutrition Service (FNS) administers the School Breakfast Program on behalf of the Secretary of Agriculture so that needy children may receive their breakfasts free or at a reduced price. Although supervised by FNS, the SBP is delivered through State agencies and school food authorities. FNS must collect information at regular intervals from these organizations to determine eligibility and to determine the number of meals served and the amount of reimbursement due. FNS also requires that certain records be maintained as directed by the CNA and associated regulations.

Need and Use of the Information: School food authorities provide information to State agencies. The State agencies report to FNS. FNS uses the information submitted to determine the amount of funds to be reimbursed, evaluate and adjust program operations, and to develop projections for future program operations.

Description of Respondents: State, Local, or Tribal Government, Individuals or household, Business or other for-profit, Not-for-profit institutions, Federal Government.

Number of Respondents: 81,748.

Frequency of Responses: Recordkeeping; Reporting: On occasion; Quarterly; Monthly; Annually; Other.

Total Burden Hours: 4,894,701.

Nancy B. Sternberg,
Departmental Clearance Officer.

[FR Doc. 00-2619 Filed 2-4-00; 8:45 am]

BILLING CODE 3410-01-M